DEPARTMENT OF COMMERCE

International Trade Administration

[C-423-809]

Stainless Steel Plate in Coils from Belgium: Extension of Time Limit for the Final Results of the Eighth Countervailing Duty Administrative Review

AGENCY: Import Administration, International Trade Administration, Department of Commerce.

EFFECTIVE DATE: September 29, 2008.

FOR FURTHER INFORMATION CONTACT: David Neubacher at (202) 482-5823 or Alicia Winston at (202) 482-1785; AD/CVD Operations, Office 1, Import Administration, International Trade Administration, U.S. Department of Commerce, 14th Street and Constitution Avenue, NW, Washington, DC 20230.

SUPPLEMENTARY INFORMATION:

Background

On June 6, 2008, the Department published the preliminary results of the administrative review of the countervailing duty order on stainless steel plate in coils from Belgium, covering the period January 1, 2006, through December 31, 2006. See Stainless Steel Plate in Coils From Belgium: Preliminary Results of Countervailing Duty Administrative Review, 73 FR 32303 (June 6, 2008). In the preliminary results we stated that we would issue our final results for the countervailing duty administrative review no later than 120 days after the date of publication of the preliminary results (i.e., October 4, 2008).

Statutory Time Limits

Section 751(a)(3)(A) of the Tariff Act of 1930, as amended (“the Act”), requires the Department of Commerce (“the Department”) to issue the final results of an administrative review within 120 days of the publication of the preliminary results. If it is not practicable to complete the review within the time period, section 751(a)(3)(A) of the Act allows the Department to extend this deadline to a maximum of 180 days.

Extension of Time Limits for Preliminary Results

The Department has determined that completion of the final results of this review within the original time period is not practicable because we received post-preliminary responses on September 8, 2008. In addition, we need to complete a post-preliminary analysis on the sales denominator and certain figures in Ugine and ALZ Belgium's financial statement and to allow adequate time for interested parties to file case and rebuttal briefs. Consequently, it is not practicable to complete this review within the originally anticipated time limit (i.e., by October 4, 2008). Therefore, the Department is extending the time limit for completion of the final results to not later than December 3, 2008, which is 180 days from the date of publication of the preliminary results, in accordance with section 751(a)(3)(A) of the Act.

We are issuing and publishing this notice in accordance with sections 751(a) and 777(i)(1) of the Act.

Dated: September 18, 2008.
Stephen J. Claeys,
Deputy Assistant Secretary for Import Administration.

[FR Doc. E8-22884 Filed 9-26-08; 8:45 am]

BILLING CODE 3510-DS-S